DEPARTMENT OF JUSTICE

[CPCLO Order No. 001-2014]

Privacy Act of 1974; System of Records

AGENCY: Office on Violence Against Women, United States Department of Justice.

ACTION: Notice of a new system of records.

SUMMARY: Pursuant to the Privacy Act of 1974 (5 U.S.C. 552a) and Office of Management and Budget (OMB) Circular No. A-130, notice is hereby given that the Department of Justice (Department or DOJ), Office on Violence Against Women (OVW), proposes to establish a new system of records entitled “Peer Reviewer Database,” JUSTICE/OVW-001. The Peer Reviewer Database (Database) will allow OVW to select individuals who have expressed interested in serving as peer reviewers for reviewing grant applications during the solicitation process for different federal grant programs authorized by the Violence Against Women Act, as amended, and administered by OVW.

DATES: In accordance with 5 U.S.C. 552a(e)(4) and (11), the public is given a 30-day period in which to comment. Therefore, please submit any comments by June 18, 2014.

ADDRESSES: The public, OMB, and Congress are invited to submit any comments to the Department of Justice, ATTN: Privacy Analyst, Office of Privacy and Civil Liberties, U.S. Department of Justice, National Place Building, 1331 Pennsylvania Avenue NW., Suite 1000, Washington, DC 20530-0001, or by facsimile at 202-307-0693. To ensure proper handling, please reference the above CPCLO Order number on your correspondence.

FOR FURTHER INFORMATION CONTACT: Cathy Poston, Attorney-Advisor, Office on Violence Against Women, United States Department of Justice, 145 N Street NE., Suite 10W121, Washington, DC 20530, or by email at OVWRegs@jconmail.usdoj.gov.

SUPPLEMENTARY INFORMATION: Every year, OVW posts solicitations for its numerous grant programs authorized by the Violence Against Women Act, as amended. These grant programs enable communities to increase their capacity to respond to crimes of domestic violence, dating violence, sexual assault, and stalking. As part of the review process, prior to making award decisions, OVW may assemble different peer review panels to review and score the applications received in response to a solicitation for a particular grant program. These peer review panels are comprised of experts and practitioners, on the subject matter pertaining to the grant, who review and score grant applications based on the requirements outlined in the solicitation for that particular grant program. OVW invites experts and practitioners to serve as peer reviewers for a particular grant program based on their relevant expertise and experience. Participation in the peer review program is completely voluntary; however, in order to be considered a peer reviewer, the prospective reviewer must enter his or her information online, a web-based system that is accessible online, such as contact information, resume/curriculum vitae (CV), employee type, education levels, job categories, ethnicity, expertise areas, and availability. A potential reviewer can only access, view, and modify his or her own individual record. OVW staff can access the Database to perform searches and review peer reviewer profiles in order to select an individual to serve on a peer review panel for a particular OVW grant program.

The system also maintains basic grant applicant information, retrieved from the U.S. Department of Justice's Office of Justice Programs' (OJP) Grants Management System (GMS), such as legal name, GMS application number, contact name and information, peer reviewer scores, project description, and funding request amount in connection with certain peer review panels for different OVW solicitations. It also contains information used to track payments due and the status of payments (e.g., invoice received, invoice paid) for those individuals who serve as peer reviewers on a particular OVW peer review panel.

In accordance with 5 U.S.C. 552a(r), the Department has provided a report to OMB and Congress on this new system of records.

Dated: April 29, 2014.
Erika Brown Lee,
Chief Privacy and Civil Liberties Officer, United States Department of Justice.

JUSTICE/OVW-001

System Name:

Peer Reviewer Database.

Security Classification:

Unclassified.

System Location:

Office on Violence Against Women, 145 N Street NE., Suite 10W121, Washington, DC 20530. Duplicate information may be stored at other locations for purposes of system backup, emergency preparedness, and continuity of operations.

Categories of Individuals Covered by the System:

Individuals selected by OVW to serve as peer reviewers, as well as individuals who are candidates to be a peer reviewer, during the solicitation review process for different federal grant programs authorized by the Violence Against Women Act and administered by OVW.

Categories of Records in the System:

Records in the peer reviewer database include an individual's name, mailing address, personal email address, telephone number, work-related information (e.g., current occupation, job title, work address, email address, work address, and work history), areas of expertise, and availability. In addition, information regarding education level, gender, ethnicity, and tribal affiliation may be provided on a voluntary basis.

Authority for Maintenance of the System:

5 U.S.C. 301, 42 U.S.C. 13925 et seq., and 44 U.S.C. 3101.

Purpose(s):

The Peer Reviewer Database is a system that allows OVW to select individuals to serve as grant application reviewers during the peer review process in connection with OVW's annual administration of grant awards.

Routine Uses of Records Maintained in the System, Including Categories of Users and the Purposes of Such Uses:

In addition to those disclosures generally permitted under 5 U.S.C. 552a(b), relevant information contained in this system may be disclosed as follows:

(a) In an appropriate proceeding before a court, grand jury, or administrative or adjudicative body, when the Department of Justice determines that the records are arguably relevant to the proceeding; or in an appropriate proceeding before an administrative or adjudicative body when the adjudicator determines the records to be relevant to the proceeding.

(b) To the news media and the public, including disclosures pursuant to 28 CFR 50.2, unless it is determined that release of the specific information in the context of a particular case would constitute an unwarranted invasion of personal privacy.

(c) To contractors, grantees, experts, consultants, students, and others performing or working on a contract, service, grant, cooperative agreement, or other assignment for the federal government, when necessary to accomplish an agency function related to this system of records.

(d) To a Member of Congress or staff acting upon the Member's behalf when the Member or staff requests the information on behalf of, and at the request of, the individual who is the subject of the record.

(e) To the National Archives and Records Administration for purposes of records management inspections conducted under the authority of 44 U.S.C. 2904 and 2906.

(f) To appropriate agencies, entities, and persons when (1) the Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

Disclosure to Consumer Reporting Agencies:

None.

Policies and Practices for Storing, Retrieving, Accessing, Retaining, and Disposing of Records in the System:

Storage:

Records in this system are in electronic form. Records are stored in accordance with applicable executive orders, statutes, and agency implementing recommendations.

Retrievability:

Records are retrieved by the name of the peer reviewer.

Safeguards:

Information in this system is maintained in accordance with applicable laws, rules, and policies on protecting individual privacy. The servers storing electronic data and the backup tapes stored onsite are located in locked rooms with access limited to authorized agency personnel. Backup tapes stored offsite are maintained in accordance with a government contract that requires adherence to applicable laws, rules, and policies on protecting individual privacy. Internet connections are protected by multiple firewalls. Security personnel conduct periodic vulnerability scans using DOJ-approved software to ensure security compliance, and security logs are enabled for all computers to assist in troubleshooting and forensic analysis during incident investigations. Users of individual computers can only gain access to the data by a valid user identification and password.

Retention and Disposal:

Records are retained and disposed of in accordance with the National Archives and Records Administration's General Records Schedule 3, Item 14, “Grant Administrative Files.”

System Manager(s) and Address:

Acquisition Liaison Specialist, Office on Violence Against Women, 145 N Street NE., Suite 10W121, Washington, DC 20530.

Notification Procedure:

Same as Record Access Procedures.

Record Access Procedures:

All requests for access must be in writing, must comply with 28 CFR part 16, and should be addressed to: FOIA/Privacy Act Officer, Office on Violence Against Women, United States Department of Justice, 145 N Street NE., Suite 10W121, Washington, DC 20530, or by email to ovw.foia@usdoj.gov. The envelope and letter should be clearly marked “Privacy Act Access Request.” The request should include a general description of the records sought and must include the requester's full name, current address, and date and place of birth. The request must be signed and dated and either notarized or submitted under penalty of perjury. Although no specific form is required, you may obtain forms for this purpose from the FOIA/Privacy Act Mail Referral Unit, Justice Management Division, United States Department of Justice, 950 Pennsylvania Avenue NW., Washington, DC 20530-0001, or from the Department's Web site at http://www.justice.gov/oip/forms/cert_ind.pdf.

Contesting Record Procedures:

Individuals seeking to contest or amend information maintained in the system should direct their requests to the address indicated in the “Record Access Procedures” section, above. The request must comply with 28 CFR 16.46 and state clearly and concisely what information is being contested, the reasons for contesting it, and the proposed amendment to the information sought. Once a potential peer reviewer has entered his/her information in the database, he/she may also update that information at any time using the assigned User ID and password. Reviewers are encouraged to periodically update their personal and professional information, as necessary, to ensure OVW has the most accurate information possible to best match skills to individual program peer reviews.

Record Source Categories:

Individuals selected by OVW desiring to serve as peer reviewers.

Exemptions Claimed for the System:

None.

[FR Doc. 2014-11506 Filed 5-16-14; 8:45 am]

BILLING CODE 4410-CW-P